DEPARTMENT OF ENERGY

Federal Energy Regulatory Commission

[Docket No. EL01-47-000]

Removing Obstacles to Increased Electric Generation and Natural Gas Supply in the Western United States; Notice of Intent To Convene a Conference To Consult With State Commissioners and Other State Representatives From Western States

March 16, 2001.

Take notice that the Federal Energy Regulatory Commission (Commission) will meet with state commissioners and other state representatives from Arizona, California, Colorado, Idaho, Montana, Nevada, New Mexico, Oregon, Utah, Washington, and Wyoming for the purpose of discussing price volatility in the West, as well as other FERC-related issues recently identified by the Governors of these states.¹ The Commission invites two participants from each state listed above, and asks that at least one of the participants from each state be from the state's public utility commission.

¹ See Western Governors' Association, “Suggested Action Plan to Meet the Western Electricity Crisis and Help Build the Foundation for National Energy Policy” (March 2001). A copy of this document was filed in this docket. See also Western Governors' Association website at http://www.westgov.org/wieb/power/index.htm.

The conference is scheduled for Friday, April 6, 2001 in Boise, Idaho. All interested parties are permitted to attend, although seating will be limited. An additional notice will issue at a later time providing information about participants, content, and logistics. For additional information, please contact Saida E. Shaalan at (202) 208-0278;

Linwood A. Watson, Jr.,
Acting Secretary.

[FR Doc. 01-7102 Filed 3-21-01; 8:45 am]

BILLING CODE 6717-01-M